DEPARTMENT OF THE INTERIOR

Fish and Wildlife Service

[FWS-R3-ES-2015-N035; FXES11120300000-156-FF03E00000]

Notice of Availability of Draft Environmental Assessment and Revised Multi-Species Habitat Conservation Plan; Receipt of Application for Incidental Take Permit Amendment; NiSource Inc.

AGENCY: Fish and Wildlife Service, Interior.

ACTION: Notice of availability; request for public comment.

SUMMARY: We, the U.S. Fish and Wildlife Service (Service), have received an application from NiSource Inc. and its subsidiary Columbia Pipeline Group (hereafter, NiSource), for an amendment to add the northern long-eared bat to its Endangered Species Act (ESA) incidental take permit (ITP). The application includes a revised Habitat Conservation Plan (HCP). The Service prepared an Environmental Assessment (EA). We request public comments on NiSource's revised HCP and our draft EA.

DATES: To ensure consideration, please send your written comments on or before April 20, 2015.

ADDRESSES: Document availability: The permit application and associated documents are available for review, subject to the requirements of the Privacy Act of 1974 (5 U.S.C. 552a) and Freedom of Information Act, by any of the following methods:

• Internet: You may access electronic copies on the Internet at http://www.fws.gov/midwest/endangered/permits/hcp/nisource/index.html.

• U.S. Mail: You may obtain electronic copies on CD-ROM by submitting a request in writing to the U.S. Fish and Wildlife Service within 30 days of the date of publication of this notice; see FOR FURTHER INFORMATION CONTACT.

• In-Person: Printed copies are available for public inspection and review (by appointment only), at the office listed under FOR FURTHER INFORMATION CONTACT.

Submitting Comments: Send written comments via U.S. mail to the Regional Director, Midwest Region, Attn: Thomas Magnuson, U.S. Fish and Wildlife Service, Ecological Services, 5600 American Blvd. West, Suite 990, Bloomington, MN 55437-1458, or by electronic mail to permitsR3ES@fws.gov.

FOR FURTHER INFORMATION CONTACT: Karen Herrington, NiSource MSHCP Coordinator, by U.S. mail at U.S. Fish and Wildlife Service, 360 Pearson Ct., Saint Charles, MO 63304; or by phone at 612-713-5315.

SUPPLEMENTARY INFORMATION: We have received an application from NiSource for an amendment to its Endangered Species Act (ESA) incidental take permit (ITP), to add the northern long-eared bat. The application includes a revised HCP, developed to satisfy the criteria listed in section 10(a)(1)(B) of the ESA pertaining to issuance of incidental take permits. If NiSource has met these criteria, and its HCP and supporting information are statutorily complete, an amended incidental take permit that includes the northern long-eared bat will be issued. Issuances of ITPs by the Service are Federal actions subject to review under the National Environmental Policy Act (NEPA). To comply with NEPA, the Service prepared an EA, the purpose of which is to determine the significance of environmental impacts that could result from amending the NiSource ITP to include the northern long-eared bat, and through subsequent implementation of the revised NiSource HCP.

We request public comments on NiSource's revised HCP and our draft EA. For availability of these documents, see ADDRESSES.

NiSource, headquartered in Merrillville, Indiana, is engaged in natural gas transmission, storage, and distribution across the eastern United States. In September 2013, the Service issued NiSource an ITP for 10 federally listed species that occur in portions of its 14-State operating territory. The permit allows NiSource to incidentally take these species while operating and maintaining its interstate natural gas pipeline infrastructure. After issuance of the ITP, the Service proposed listing the northern long-eared bat (Myotis septentrionalis) under the ESA. The northern long-eared bat was not included in the original NiSource HCP.

On January 13, 2015, the Service received an application from NiSource to have the northern long-eared bat added to its ITP. The application includes a revised HCP that provides an analysis of NiSource activities across its 14-State operating territory, which includes Delaware, Indiana, Kentucky, Louisiana, Maryland, Mississippi, New Jersey, New York, North Carolina, Ohio, Pennsylvania, Tennessee, Virginia, and West Virginia. Northern long-eared bats are present in each of those 14 States. Based on the analysis in the revised HCP, certain NiSource activities (e.g., right-of-way maintenance, facility inspection, upgrade and replacement of pipelines, relocations, routine expansions, and mitigation) have the potential to impact the northern long-eared bat. In particular, two NiSource activities will potentially cause take of northern long-eared bats: (1) Tree clearing in known and suitable summer, spring staging, and fall swarming habitat, and (2) “waste pit” construction in storage fields. NiSource mitigation directed at the Indiana bat will likely provide conservation benefits to the northern long-eared bat. The revised NiSource HCP identifies over 40 conservation measures that NiSource will implement in each of those 14 States to avoid, minimize, and mitigate potential impacts to northern long-eared bats. Beyond the ITP amendment request, there are no other changes to the NiSource HCP.

Over the 49 year life of the permit, NiSource is requesting incidental take, primarily in the form of habitat harassment and harm, for no more than 93,500 acres of habitat that could support up to 4,618 northern long-eared bats. After all practicable steps have been taken to avoid and minimize take, NiSource will fund mitigation projects to compensate for the impacts of its take. Such projects will include protecting high-quality northern long-eared bat habitats, restoring and protecting degraded northern long-eared bat habitat, and potentially establishing new habitat.

The NEPA process will culminate with a decision by the Service's Regional Director on one of three alternatives found in Chapter 2 of the EA: (1) No Action (Status Quo); (2) Approve ITP Amendment Request (Applicant's Preferred Alternative); (3) Approve ITP Amendment Request with Conditions (Service's Preferred Alternative). Once an alternative is selected, the Regional Director will then decide whether issuance of an amended ITP to NiSource Inc., including subsequent implementation of its revised HCP, will significantly affect the quality of the human environment, as defined by the NEPA.

Public Availability of Comments

Written comments we receive become part of the public record associated with this action. Before including your address, phone number, email address, or other personal identifying information in your comment, you should be aware that the entire comment, including your personal identifying information, may be made available at any time. While you can ask us in your comment to withhold your personal identifying information from public review, we cannot guarantee that we will be able to do so.

Authority

We provide this notice under section 10(c) of the ESA (16 U.S.C. 1531 et seq.) and its implementing regulations (50 CFR 17.22), and under NEPA (42 U.S.C. 4371 et seq.) and its implementing regulations (40 CFR 1506.6; 43 CFR part 46).

Dated: February 18, 2015.
Lynn Lewis,
Assistant Regional Director, Ecological Services, Midwest Region.

[FR Doc. 2015-06396 Filed 3-19-15; 8:45 am]

BILLING CODE 4310-55-P